DEPARTMENT OF COMMERCE

Foreign-Trade Zones Board

[B-13-2024]

Foreign-Trade Zone 21; Application for Subzone; AESC Florence LLC; Florence, South Carolina

An application has been submitted to the Foreign-Trade Zones (FTZ) Board by the South Carolina State Ports Authority, grantee of FTZ 21, requesting subzone status for the facility of AESC Florence LLC (AESC), located in Florence, South Carolina. The application was submitted pursuant to the provisions of the Foreign-Trade Zones Act, as amended (19 U.S.C. 81a-81u), and the regulations of the FTZ Board (15 CFR part 400). It was formally docketed on March 29, 2024.

The proposed subzone (472 acres) is located at 1330 Estate Road, Florence, South Carolina. No authorization for production activity has been requested at this time.

In accordance with the FTZ Board's regulations, Christopher Kemp of the FTZ Staff is designated examiner to review the application and make recommendations to the FTZ Board.

Public comment is invited from interested parties. Submissions shall be addressed to the FTZ Board's Executive Secretary and sent to: ftz@trade.gov. The closing period for their receipt is May 13, 2024. Rebuttal comments in response to material submitted during the foregoing period may be submitted during the subsequent 15-day period to May 28, 2024.

A copy of the application will be available for public inspection in the “Online FTZ Information Section” section of the FTZ Board's website, which is accessible via www.trade.gov/ftz.

For further information, contact Christopher Kemp at Christopher.Kemp@trade.gov.

Dated: March 29, 2024.
Elizabeth Whiteman,
Executive Secretary.

[FR Doc. 2024-07076 Filed 4-2-24; 8:45 am]

BILLING CODE 3510-DS-P